DEPARTMENT OF DEFENSE

Department of the Army; Corps of Engineers

Availability of the Draft Supplemental Environmental Impact Statement for the Missouri River Fish and Wildlife Mitigation Project Located on the Missouri River From Sioux City, Iowa to the Mouth Near St. Louis, MO in the States of Iowa, Nebraska, Kansas, and Missouri

AGENCY: Department of the Army. U.S. Army Corps of Engineers, DoD.

ACTION: Notice of availability.

SUMMARY: This announces the availability of the Draft Supplemental Environmental Impact Statement (DSEIS) for the Missouri River Fish and Wildlife Mitigation Project located on the Missouri River in the States of Iowa, Nebraska, Kansas, and Missouri. The Mitigation Project was first authorized by the Water Resources Development Act (WRDA) OF 1986, which included the development of 48,100 acres of aquatic and terrestrial habitat for fish and wildlife along the 735 miles of the Missouri River between Sioux City, IA and St. Louis, MO. The WRDA of 1999 modified the Mitigation Project by increasing the amount of habitat development by 118,650 acres to a total of 166,750 acres. The DSEIS assesses the potential environmental impacts of the modified Mitigation Project, which includes the development, restoration, or enhancement of fish and wildlife habitat on an additional 118,650 acres on individual sites purchased from willing sellers and through easements. The purpose of the Mitigation Project is to restore fish and wildlife habitat losses resulting from the construction and development of the Missouri River Bank Stabilization and Navigation Project (BSNP). Seven alternatives are considered in the DSEIS and three alternatives are analyzed in detail including a Preferred Action, No Development alternative, and No Action alternative.

DATES: The public comment period for the DSEIS will end 45 days after publication of the notice of availability in the Federal Register by the U.S. Environmental Protection Agency. Comments on the DSEIS should be received no later than November 4, 2002.

FOR FURTHER INFORMATION CONTACT: Kelly Ryan, US Army Corps of Engineers, Kansas City District, Attn: CENWK-PM-CJ, 601 East 12th Street, Kansas City, MO, 64106-2896, Phone: 816-983-3324.

SUPPLEMENTARY INFORMATION: 1. The U.S. Fish and Wildlife Service, U.S. Environmental Protection Agency, Iowa Department of Natural Resources, Kansas Department of Wildlife and Parks, Nebraska Game and Parks Commission, and the Missouri Department of Conservation are serving as cooperating agencies on the preparation of the DSEIS.

2. Three alternatives are considered in detail in the DSEIS:

a. The Preferred Action alternative includes the development, restoration, or enhancement of fish and wildlife habitat on an additional 118,650 acres on individual sites purchased from willing sellers and through easements. Included in the 118,650 acres would be the construction or restoration of approximately 7,000 to 20,000 acres of shallow water habitat to achieve a goal of 20-30 acres per mile along the 735-mile BSNP.

b. The No Development alternative includes the acquisition of 118,650 acres on individual sites purchased from willing sellers or through easements, however, there would be no subsequent habitat development or construction activities.

c. The No Action alternative would not develop, restore, or enhance any additional acres for fish and wildlife habitat except for that previously authorized under WRDA of 1986 or that of other state or Federal programs.

3. Open house public meetings on this DSEIS will be held from 4:30 p.m. to 6 p.m. and formal public hearings for the purpose of receiving comments will begin at 7 p.m. at the following locations:

a. October 8, 2002—Lange Middle School, 2201 E. Smiley Lane, Columbia, MO.

b. October 9, 2002—Washington Middle School, 401 E. 14th Street, Washington, MO.

c. October 10, 2002—Lexington Middle School, 1111 S. 24th Street, Lexington, MO.

d. October 15, 2002—Sidney Elementary School, 1004 Illinois Street, Sidney, IA.

e. October 16, 2002—Atchison Heritage Convention Center, 710 S. 9th Street, Atchison, KS.

f. October 17, 2002—Arbor Park Elementary School, 1717 Adams Street, Blair, NE.

4. Copies of the DSEIS are available for review in the following libraries:

a. Atchison Library, 401 Kansas Avenue, Atchison, KS 66002.

b. Atchison County Library, 200 S. Main St., Rock Port, MO 64482-1532.

c. Blair Public Library, 210 S. 17th Street, Blair, NE 68008.

d. Boonslick Regional Library, 618 Main Street, Boonville, MO 65233-1572.

e. Callaway County Public Library, 710 Court Street, Fulton, MO 65251.

f. Carrollton Public Library, 206 W. Washington, Carrollton, MO 64633.

g. Council Bluffs Public Library, 400 Willow Ave., Council Bluffs, IA 51503-4269.

h. Daniel Boone Regional Library, 100 W. Broadway, Columbia, MO 65201.

i. Dakota City Public Library, 1708 Broadway, Dakota City, NE 68731.

j. Fayette Public Library, 201 South Main Street, Fayette, MO 65248.

k. Keytesville Library, 406 W. Bridge Street, Keytesville, MO 65261-1016.

l. Leavenworth Public Library, 417 Spruce, Leavenworth, KS 66048.

m. Lewis Library of Glasgow, 315 Market Street, Glasgow, MO 65254-2395.

n. Lexington Library, 1008 Main Street, Lexington, MO 64067-1345.

o. Lydia Bruun Woods Memorial Library, 120 E. 18th Street, Falls City, NE 68355.

p. Mid-Continent Public Library, 100 Kent Street, Liberty, MO 64068-2256.

q. Morton—James Public Library, 923 First Corso, Nebraska City, NE 68410.

r. Onawa Public Library, 707 Iowa Avenue, Onawa, IA 51040.

s. Oregon Public Library, Washington Street, Oregon, MO 64473.

t. Plattsmouth Public Library, 4th & Avenue A, Plattsmouth, NE 68048.

u. River Bluffs Regional Library, 927 Felix St., St. Joseph, MO 64501.

v. St. Charles Library, 2323 Elm Street, St. Charles, MO 63301-1440.

w. St. Louis Public Library, 5850 N. Hanley Road, St. Louis, MO 63134.

x. Scenic Regional Library, 113 E. 4th Street, Hermann, MO 65041-1129.

y. Scenic Regional Library, 100-2 E. Main Street, Warrenton, MO 63383-2004.

z. Sidney Public Library, 604 Clay Street, Sidney, IA 51652.

aa. Sioux City Public Library, 529 Pierce Street, Sioux City, IA 51101-1203.

bb. Thomas Jefferson Library, 214 Adams St., Jefferson City, MO 65101.

cc. Washington Public Library, 415 Jefferson Street, Washington, MO 63090-2607.

dd. Walthill Public Library, Main Street, Walthill, NE 68067.

ee. W. Dale Clark Library, 215 S. 15th Street, Omaha, NE 68102-1004.

5. The DSEIS is also available for review on the Missouri River Fish and Wildlife Mitigation Project Web site at: http://www.nwk.usace.army.mil/projects/mitigation/supplemental-eis.htm.

Dated: September 11, 2002.
Kelly Ryan,
Project Manager, Kansas City District.

[FR Doc. 02-23854 Filed 9-19-02; 8:45 am]

BILLING CODE 3710-KN-M